ENVIRONMENTAL PROTECTION AGENCY

[FRL-10010-06-Region 9]

El Centro Residential Lead Removal Site, El Centro, CA; Notice of Proposed CERCLA Settlement Agreement for Recovery of Past Response Costs

AGENCY: Environmental Protection Agency (EPA).

ACTION: Notice; request for comment.

SUMMARY: In accordance with the Comprehensive Environmental Response, Compensation and Liability Act of 1980, as amended (CERCLA), notice is hereby given of a proposed administrative settlement for recovery of response costs concerning the El Centro Residential Lead Removal Site in El Centro, California. The settlement is entered into pursuant to Section 122(h)(1) of CERCLA, and it requires the settling party to reimburse the Environmental Protection Agency (EPA) $50,000 in response costs that EPA incurred at the Site.

DATES: EPA will receive written comments relating to this proposed settlement until 30 days after publication in the Federal Register.

ADDRESSES: Please contact Craig Whitenack at whitenack.craig@epa.gov or (213) 244-1820 to request a copy of the Settlement Agreement. Comments on the Settlement Agreement should be submitted in writing to Mr. Whitenack at whitenack.craig@epa.gov. Comments should reference the El Centro Residential Lead Removal Site, El Centro, California and the EPA Docket Number for the Settlement Agreement, EPA R9-20-004. If for any reason you are not able to submit a comment by email, please contact Mr. Whitenack at (213) 244-1820 to make alternative arrangements for submitting your comment.

FOR FURTHER INFORMATION CONTACT: Craig Whitenack, Civil Investigator (SEMD-CSCEB-CES), Southern California Field Office, U.S. EPA Region IX, 600 Wilshire Blvs., Suite 1460; phone: (213) 244-1820; fax: email: whitenack.craig@epa.gov.

SUPPLEMENTARY INFORMATION: In accordance with Section 122(i) of the Comprehensive Environmental Response, Compensation and Liability Act of 1980, as amended (CERCLA), 42 U.S.C. 9622(i), notice is hereby given of a proposed administrative settlement for recovery of response costs concerning the El Centro Residential Lead Removal Site in El Centro, California. The settlement is entered into pursuant to Section 122(h)(1) of CERCLA, 42 U.S.C. 9622(h)(1), and it requires the settling party to reimburse EPA $50,000 in response costs that EPA incurred at the Site. The settlement includes a covenant not to sue the settling party pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

Party to the Proposed Settlement: City of El Centro.

Enrique Manzanilla,
Director, Superfund Division, U.S. EPA, Region IX.

[FR Doc. 2020-15131 Filed 7-13-20; 8:45 am]

BILLING CODE 6560-50-P